DEPARTMENT OF AGRICULTURE

Commodity Credit Corporation

Rural Business-Cooperative Service

[Docket number RBS-20-CO-OP-0018]

Solicitation of Applications for the Higher Blends Infrastructure Incentive Program (HBIIP) for Fiscal Year 2020

AGENCY: Commodity Credit Corporation and the Rural Business-Cooperative Service, USDA.

ACTION: Notice; announcement of opening date for Higher Blends Infrastructure Incentive Program application window.

SUMMARY: The Commodity Credit Corporation (CCC) and the Rural Business-Cooperative Service (RBCS), a Rural Development agency of the United States Department of Agriculture (USDA), announced its general policy and application procedures for funding under the Higher Blends Infrastructure Incentive Program (HBIIP) in a Notice of Funding Availability (NOFA) on May 5, 2020 in the Federal Register. The HBIIP will provide up to $100 million in competitive grants to eligible entities for activities designed to expand the sales and use of renewable fuels under the Higher Blends Infrastructure Incentive Program (HBIIP). This Notice announces the opening date for the HBIIP application window.

DATES: Applications for the Higher Biofuels Infrastructure Incentive Program will be accepted from May 15, 2020 through August 13, 2020. Applications received after 11:59 p.m. Eastern Daylight Time on August 13, 2020, will not be considered. The grant period is not to exceed 18-months, unless otherwise specified in the Grant Agreement or agreed to by CCC.

ADDRESSES:

Application Submission: The application system for electronic submissions will be available through http://www.rd.usda.gov/HBIIP.

Electronic submissions: Electronic submissions of applications will allow for the expeditious review of an Applicant's proposal. As a result, all Applicants must file their application electronically. Applicants' requests to establish an applicant user account will be available through http://www.rd.usda.gov/HBIIP.

FOR ADDITONAL INFORMATION CONTACT: For general inquiries regarding the HBIIP, contact Anthony Crooks: telephone (202) 205-9322, email: EnergyPrograms@usda.gov. Persons with disabilities that require alternative means for communication should contact the U.S. Department of Agriculture (USDA) Target Center at (202) 720-2600 (voice).

SUPPLEMENTARY INFORMATION:

Authority: This solicitation is issued pursuant to; 62 Stat 1070, and the Commodity Credit Corporation Charter Act of 1948 (Charter Act); U.S. Code 15 U.S.C. 714.

Overview

Federal Agency: The Commodity Credit Corporation (CCC) and the Rural Business-Cooperative Service (RBCS), (USDA).

Funding Opportunity Title: Higher Blends Infrastructure Incentive Program (HBIIP) for Fiscal Year 2020.

Announcement Type: Solicitation of Applications; announcement of opening date for Higher Blends Infrastructure Incentive Program application window. The grant period is not to exceed 18-months, unless otherwise specified in the Grant Agreement or agreed to by CCC.”

Catalog of Federal Domestic Assistance (CFDA) Title: The Higher Blends Infrastructure Incentive Program (HBIIP)-10.754.

I. Background

On May 5, 2020, the CCC and RBCS (the Agency) published a NOFA in the Federal Register announcing the availability of up to $100 million in competitive grants to eligible entities for activities designed to expand the sales and use of renewable fuels under the Higher Blends Infrastructure Incentive Program (HBIIP). The Agency stated in the NOFA that it would finalize the application window for enrollment in the HBIIP by notice in the Federal Register and Grants.gov. subject to future opening of the electronic application system. The purpose of this Notice is to announce that the Agency will begin to accept applications for the HBIIP beginning May 15, 2020.

II. General Funding Information

Grants for up to 50 percent of total eligible project costs, but not more than $5 million, are made available to vehicle fueling facilities, including, but not limited to, local fueling stations/locations, convenience stores (CS), hypermarket fueling stations (HFS), fleet facilities, and fuel terminal operations, midstream partners, and/or distribution facilities.

A. Type of Instrument

Grants. Awards to successful applicants will be in the form of cost-share grants for up to 50 percent of total eligible project costs, but not to exceed $5 million, whichever is less.

B. Available Funds

Under HBIIP, up to $100 million is made available to eligible participants. Of the total amount of available funds, approximately $86 million will be made available to transportation fueling facilities (including fueling stations, convenience stores, hypermarket fueling stations, fleet facilities, and similar entities with capital investments) for eligible implementation activities related to higher blends of fuel ethanol greater than 10 percent ethanol, such as E15 or higher; and approximately $14 million will be made available to transportation fueling facilities and fuel distribution facilities (including terminal operations, depots, and midstream partners), for eligible implementation activities related to higher blends of biodiesel greater than 5 percent biodiesel, such as B20 or higher.

C. Approximate Number of Awards

The number of awards will depend on the number of eligible participants and the total amount of requested funds. In the unlikely event that every successful applicant is awarded the maximum amount available of $5 million, 20 awards will be made. The Agency intends/expects to make approximately 150 awards and provide assistance to 1,500 locations from this solicitation.

III. Program Requirements

To be eligible for an award, applications must meet all the requirements contained in the NOFA published in the Federal Register on May 5, 2020 at 85 FR 26656. Information can also be found at http://www.rd.usda.gov/HBIIP.

Robert Stephenson,
Executive Vice President, Commodity Credit Corporation.
Mark Brodziski,
Acting Administrator, Rural Business-Cooperative Service.

[FR Doc. 2020-10487 Filed 5-14-20; 8:45 am]

BILLING CODE 3410-05-P